ENVIRONMENTAL PROTECTION AGENCY

[FRL-7654-4]

Science Advisory Board; Scientific and Technological Achievement Awards Review Panel; Request for Nominations

AGENCY: Environmental Protection Agency.

ACTION: Notice.

SUMMARY: The U.S. Environmental Protection Agency (EPA) Science Advisory Board (SAB) Staff Office is announcing the addition of more experts to its Scientific and Technological Achievement Awards Review Panel (Panel) and is hereby soliciting nominations for additions to this Panel.

DATES: Nominations should be submitted by May 18, 2004.

FOR FURTHER INFORMATION CONTACT: Any member of the public wishing further information regarding this Request for Nominations may contact Ms. Kathleen White, Designated Federal Officer (DFO), EPA Science Advisory Board Staff Office, at telephone/voice mail: (202) 343-9878; or via e-mail at: white.kathleen@epa.gov. General information concerning the SAB can be found on the EPA Web site at: http://www.epa.gov/sab.

SUPPLEMENTARY INFORMATION: Background: Background information about the SAB, the Scientific and Technological Achievement Awards Program, and the formation of this Panel was published in the Federal Register, 67 FR 79079-81 (December 27, 2002). At that time, the SAB solicited nominations for the full Panel which met in 2003.

The SAB would now like to add two or three experts to augment the existing Panel in the areas of control systems and technology and/or ecological research. Experience reviewing articles for peer reviewed journals and/or service as an editor of a peer reviewed journal is highly desirable. Updated information about EPA's Scientific and Technological Achievement Awards (STAA) program can be found at: http://es.epa.gov/ncer/staa/index.html.

Process and Deadline for Submitting Nominations: Nominations should be submitted in electronic format through the Form for Nominating Individuals to Panels of the EPA Science Advisory Board provided on the SAB Web site. The form can be accessed through a link on the blue navigational bar on the SAB Web site, http://www.epa.gov/sab. To be considered, all nominations must include the information required on that form. Anyone who is unable to submit nominations via this form should contact the DFO, indicated above.

Dated: April 19, 2004.
Vanessa T. Vu,
Director, EPA Science Advisory Board Staff Office.

[FR Doc. 04-9559 Filed 4-26-04; 8:45 am]

BILLING CODE 6560-50-P